DEPARTMENT OF HEALTH AND HUMAN SERVICES

Administration on Aging

[Program Announcement No. AoA-00-01]

Fiscal Year 2000 Program Announcement; Availability of Funds and Notice Regarding Applications

AGENCY: Administration on Aging, HHS.

ACTION: Announcement of availability of funds and request for applications to carry out new cooperative agreement awards to train retired persons to serve in their communities as volunteer expert resources and educators in combating health care waste, fraud and abuse.

SUMMARY: The Administration on Aging (AoA) announces that under this program announcement it will hold a competition for new “Senior Medicare Patrol Projects” that demonstrate effective ways of utilizing retired persons as volunteer expert resources and educators in community efforts to combat health care waste, fraud and abuse. The deadline date for the submission of applications for new awards is March 31, 1999.

Public and/or nonprofit agencies, organizations, and institutions are eligible to apply under this program announcement. However, consistent with the terms of the Consolidated Appropriations Act for FY 2000 (Pub. L. 106-113), preference will be given in the making of new cooperative agreement awards to projects that will be carried out by consortia headed by community-based public or nonprofit agencies or organizations. In addition, the AoA plans to make continuation awards to “Senior Medicare Patrol Projects” in 26 jurisdictions—Alabama, Alaska, Arizona, Arkansas, Colorado, Connecticut, District of Columbia, Delaware, Florida, Georgia, Idaho, Indiana, Maine, Massachusetts, Michigan, Montana, Nevada, New Mexico, Ohio, Oklahoma, Oregon, Puerto Rico, Texas, Utah, Virginia, and Washington. No new awards will be made in these states under this Program Announcement. Rather, they are eligible for continuation funding.

Application kits are available by writing to the Department of Health and Human Services, Administration on Aging, Office of Governmental Affairs and Elder Rights, 330 Independence Avenue, S.W., Room 4748, Washington, DC 20201, telephone: (202) 619-3775 or (202) 619-3951.

Dated: January 24, 2000.
Jeanette C. Takamura,
Assistant Secretary for Aging.

[FR Doc. 00-2235 Filed 2-1-00; 8:45 am]

BILLING CODE 4154-01-U